SMALL BUSINESS ADMINISTRATION

[Declaration of Economic Injury Disaster #9U61]

State of Massachusetts (And Contiguous Counties in New Hampshire)

Essex County and the contiguous counties of Middlesex and Suffolk in the State of Massachusetts; and Hillsborough and Rockingham Counties in the State of New Hampshire constitute an economic injury disaster loan area as a result of a fire that occurred on February 20, 2003 in Marblehead, Massachusetts. Eligible small businesses and small agricultural cooperatives without credit available elsewhere may file applications for economic injury assistance as a result of this disaster until the close of business on December 31, 2003 at the address listed below or other locally announced locations: U.S. Small Business Administration, Disaster Area 1 Office, 360 Rainbow Blvd, South 3rd Floor, Niagara Falls, NY 14303.

The interest rate for eligible small businesses and small agricultural cooperatives is 3.189 percent.

The numbers assigned for economic injury for this disaster are 9U6100 for Massachusetts; and 9U6200 for New Hampshire.

(Catalog of Federal Domestic Assistance Program No. 59002)
Dated: March 31, 2003.
Hector V. Barreto,
Administrator.

[FR Doc. 03-8510 Filed 4-7-03; 8:45 am]

BILLING CODE 8025-01-P